OFFICE OF MANAGEMENT AND BUDGET

Proposed Information Collection Activities; Request For Comments

AGENCY: Office of Management and Budget.

ACTION: Notice.

SUMMARY: In accordance with the Paperwork Reduction Act (44 U.S.C. 3501 et seq.), the Office of Management and Budget (OMB) invites the general public and Federal agencies to comment on the renewal without change of standard form for submitting facilities and administrative rate proposals by educational institutions. These forms are required by OMB Circular A-21, “Cost Principles for Educational Institutions.”

DATES: Comments must be submitted on or before September 13, 2004. Late comments will be considered to the extent practicable.

ADDRESSES: Comments should be mailed to Gilbert Tran, Office of Federal Financial Management, Office of Management and Budget, 725 17th Street, NW., Room 6025, Washington, DC 20503. Electronic mail (e-mail) comments may be submitted to Hai_M._Tran@omb.eop.gov. Please include the full body of the comments in the text of the message and not as an attachment. Please include the name, title, organization, postal address, and e-mail address in the text of the message. Due to problems receiving postal mail by OMB, we encourage the use of electronic submission. Mailed comments may not be received in a timely manner.

FOR FURTHER INFORMATION CONTACT: Gilbert Tran, Office of Federal Financial Management, Office of Management and Budget, (202) 395-3993. The form can also be downloaded from the OMB Grants Management home page (http://www.whitehouse.gov/omb/grants).

SUPPLEMENTARY INFORMATION: OMB Control No.: 0348-0058.

Title: A-21 Facilities and Administrative Proposal.

Form No.: NA.

Type of Review: Extension of a currently approved collection.

Respondents: Large universities.

Number of Responses: 300.

Estimated Time Per Response: 4 hours.

Needs and Uses: This form provides a standardized format for the submission of facilities and administrative (F&A) rate proposals that would assist educational institutions in completing their F&A rate proposals more efficiently, and help the cognizant agency review each proposal on a more consistent basis. It will also facilitate the Federal government's effort to collect better information regarding educational institutions' F&A costs that could be useful in explaining variations in F&A rates among institutions. The form can also be downloaded from the OMB Grants Management home page (http://www.whitehouse.gov/omb/grants) or calling or writing Gilbert Tran at the address listed above.

Linda M. Springer,
Controller.

[FR Doc. 04-15733 Filed 7-14-04; 8:45 am]

BILLING CODE 3110-01-P